DEPARTMENT OF COMMERCE

Bureau of Industry and Security

Agency Information Collection Activities; Submission to the Office of Management and Budget (OMB) for Review and Approval; Comment Request; Official Actions Under the Defense Priorities and Allocations System

AGENCY: Bureau of Industry and Security, Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before April 13, 2026.

ADDRESSES: Interested persons are invited to submit comments by email to Nancy Kook, IC Liaison, Bureau of Industry and Security, at PRA@bis.doc.gov or to PRAcomments@doc.gov. Do not submit Confidential Business Information or otherwise sensitive or protected information.

FOR FURTHER INFORMATION CONTACT: Requests for additional information or specific questions related to collection activities should be directed to Nancy Kook, IC Liaison, Bureau of Industry and Security, phone 202-482-2440 or by email at PRA@bis.doc.gov.

SUPPLEMENTARY INFORMATION:

I. Abstract

The Bureau of Industry and Security (BIS) administers the Defense Priorities and Allocations System (DPAS) regulation which implements the priorities and allocations authority under Title I of the Defense Production Act of 1950, as amended (DPA) (50 U.S.C. 4501, et seq.), with respect to all materials, services, and facilities, including construction materials, not delegated to other Secretaries under Executive Order (E.O.) 13603, and the priorities authority of the Military Selective Service Act of 1948 (SSA) (50 U.S.C. 3816), delegated to the Secretary under E.O. 12742 with respect to all materials and facilities, including construction materials, not delegated to other Secretaries. These materials, services, and facilities are referred to as “industrial resources.”

The DPAS regulation has two principal authorities: (1) priorities authority, which implements the DPA Title I and SSA priorities authorities; and (2) allocations authority, which implements the DPA Title I allocations authority. Under the priorities authorities, the DPAS regulation establishes procedures for the placement and preferential acceptance and performance of priority rated contracts and orders, other than contracts of employment, supporting approved programs (referred to as “rated orders”).

Under the allocations authorities, certain materials, services, and facilities may be allocated to promote the national defense, as defined in the DPA. Section 704 of the DPA authorizes the President to make such regulations and issue such orders as the President determines to be appropriate to carry out the provisions of the DPA. Section 705 of the DPA authorizes the President to obtain information by regulation, subpoena, or otherwise as may be necessary or appropriate to the enforcement or the administration of the Act and implementing regulations. Both the DPA and SSA provide for criminal and civil penalties for willful violation of the DPA or SSA, and any regulations, rule, or order issued under the authority of the DPA or SSA. Consistent with section 705 of the DPA, under section 700.91 of the DPAS regulation, persons are required to make, and preserve for at least three years, accurate and complete records of any transaction covered by the DPAS regulation or an official action.

In accordance with the DPAS regulation, BIS may take action under the DPAS regulation as necessary or appropriate to promote the national defense. Such actions are referred to as “official actions.” Official actions issued under the priorities authorities of the DPAS regulation include the following: (1) rating authorizations, which grant specific priority rating authority (i.e., authorizes placement of rated orders); (2) directives, which require a person from taking or refraining from taking certain actions under the DPAS Regulation relating to rated orders; and (3) letters of understanding, which may be used to resolve SPA requests to reflect an agreement reached by all parties related to rated orders. Official actions under the allocations authorities of the DPAS regulation are referred to as allocation orders, and include the following actions: (1) set-asides, which require a person to reserve materials, services, or facilities capacity in anticipation of the receipt of rated orders; (2) directives, which require a person from take or refrain from taking certain actions in accordance with its provisions; and (3) allotments, which specify the maximum quantity of a material, service, or facility authorized for a specific use to promote the national defense. Lastly, as outlined in the DPAS regulation, BIS may conduct audits and investigations to ensure compliance with the DPAS regulation, DPA, the SSA, and related statutes, and may result in the following official actions: (1) an administrative subpoena, (2) a demand for information, or (3) an inspection authorization. BIS has not issued an allocation order in over a decade, nor has BIS issued an administrative subpoena, demand for information, or inspection authorization during the same time period. As a result, BIS does not have an Information Collection in place for these types of official actions.

Under Presidential Proclamation 10962 (“Adjusting Imports of Copper Into the United States”), dated July 30, 2025, the President found that copper input materials and high-quality copper scrap are a scarce and critical material essential to the national defense, meeting the criteria specified in section 101(b) of the DPA (90 FR 37727). With these findings, the President authorized the Secretary to use the Secretary's delegated authority under E.O. 13603 to implement the domestic sales requirements as recommended in the “Effect of the Import of Copper Products on the U.S. National Security” report, dated June 30, 2025. This proposed Information Collection Request covers the information necessary to support the execution of official actions taken by BIS in response to the Presidential findings under section 101(b) of the DPA, as well as any future official actions issued under the DPAS regulation required to promote the national defense.

II. Method of Collection

Electronic.

III. Data

OMB Control Number: 0694-XXXX.

Form Number(s): None.

Type of Review: Regular submission. This is a new information collection.

Affected Public: Business or other for-profit organizations.

Estimated Number of Respondents: 500.

Estimated Time per Response: 18.

Estimated Total Annual Burden Hours: 9,000 hours.

Estimated Total Annual Cost to Public: $396,000.

Respondent's Obligation: Mandatory.

Legal Authority: Title I of the Defense Production Act of 1950, as amended (DPA) (50 U.S.C. 4501, et seq.).

IV. Request for Comments

We are soliciting public comments to permit the Department to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2026-02578 Filed 2-9-26; 8:45 am]

BILLING CODE 3510-33-P